DEPARTMENT OF ENERGY

Federal Energy Regulatory Commission

Combined Notice of Filings #1

Take notice that the Commission received the following exempt wholesale generator filings:

Docket Numbers: EG18-27-000.

Applicants: GSP Lost Nation LLC.

Description: Self-Certification of EWG of GSP Lost Nation LLC.

Filed Date: 1/9/18.

Accession Number: 20180109-5224.

Comments Due: 5 p.m. ET 1/30/18.

Docket Numbers: EG18-28-000.

Applicants: GSP Merrimack LLC.

Description: Self-Certification of EWG of GSP Merrimack LLC.

Filed Date: 1/9/18.

Accession Number: 20180109-5225.

Comments Due: 5 p.m. ET 1/30/18.

Docket Numbers: EG18-29-000.

Applicants: GSP Newington LLC.

Description: Self-Certification of EWG of GSP Newington LLC.

Filed Date: 1/9/18.

Accession Number: 20180109-5226.

Comments Due: 5 p.m. ET 1/30/18.

Docket Numbers: EG18-30-000.

Applicants: GSP Schiller LLC.

Description: Self-Certification of EWG of GSP Schiller LLC.

Filed Date: 1/9/18.

Accession Number: 20180109-5227.

Comments Due: 5 p.m. ET 1/30/18.

Docket Numbers: EG18-31-000.

Applicants: GSP White Lake LLC.

Description: Self-Certification of EWG of GSP White Lake LLC.

Filed Date: 1/9/18.

Accession Number: 20180109-5228.

Comments Due: 5 p.m. ET 1/30/18.

Take notice that the Commission received the following electric rate filings:

Docket Numbers: ER13-535-006.

Applicants: PJM Interconnection, L.L.C.

Description: Compliance filing: Compliance Filing Pursuant to the Commission's Dec 8, 2017 Order on Rehearing to be effective 12/8/2017.

Filed Date: 1/9/18.

Accession Number: 20180109-5201.

Comments Due: 5 p.m. ET 1/30/18.

Docket Numbers: ER18-214-001.

Applicants: Consolidated Edison Company of New York, Inc.

Description: Compliance filing: VDER Compliance Filing to be effective 11/1/2017.

Filed Date: 1/9/18.

Accession Number: 20180109-5211.

Comments Due: 5 p.m. ET 1/30/18.

Docket Numbers: ER18-630-000.

Applicants: PJM Interconnection, L.L.C.

Description: § 205(d) Rate Filing: Revised Service Agreement No. 4794; Queue No. AC1-116 (WMPA Assignment) to be effective 8/22/2017.

Filed Date: 1/10/18.

Accession Number: 20180110-5038.

Comments Due: 5 p.m. ET 1/31/18.

Docket Numbers: ER18-631-000.

Applicants: PJM Interconnection, L.L.C.

Description: § 205(d) Rate Filing: Amendment to ISA, Service Agreement No. 4082; Queue No. Z1-015 to be effective 1/21/2015.

Filed Date: 1/10/18.

Accession Number: 20180110-5091.

Comments Due: 5 p.m. ET 1/31/18.

Docket Numbers: ER18-632-000.

Applicants: NorthWestern Corporation.

Description: Tariff Cancellation: Notice of Cancellation: SA 784, Agreement to Provide Services with CHS Inc. to be effective 1/11/2018.

Filed Date: 1/10/18.

Accession Number: 20180110-5123.

Comments Due: 5 p.m. ET 1/31/18.

Docket Numbers: ER18-633-000.

Applicants: NorthWestern Corporation.

Description: Tariff Cancellation: Notice of Cancellation: SA 794, Agreement to Provide Services with Phillips Cty to be effective 1/11/2018.

Filed Date: 1/10/18.

Accession Number: 20180110-5126.

Comments Due: 5 p.m. ET 1/31/18.

Take notice that the Commission received the following electric securities filings:

Docket Numbers: ES18-19-000.

Applicants: New York State Electric & Gas Corporation.

Description: Application for authorization to issue short-term debt of New York State Electric & Gas Corporation.

Filed Date: 1/10/18.

Accession Number: 20180110-5124.

Comments Due: 5 p.m. ET 1/31/18.

Docket Numbers: ES18-20-000.

Applicants: Rochester Gas & Electric Corporation.

Description: Application for authorization to issue short-term debt of Rochester Gas & Electric Corporation.

Filed Date: 1/10/18.

Accession Number: 20180110-5125.

Comments Due: 5 p.m. ET 1/31/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2018.
Kimberly D. Bose,
Secretary.

[FR Doc. 2018-00741 Filed 1-17-18; 8:45 am]

BILLING CODE 6717-01-P